COMMISSION ON CIVIL RIGHTS

Notice of Public Meeting of the American Samoa Advisory Committee; Cancellation

AGENCY: Commission on Civil Rights.

ACTION: Notice; cancellation of meeting date.

SUMMARY: The Commission on Civil Rights published a notice in the Federal Register concerning a meeting of the American Samoa Advisory Committee. The meeting scheduled for Wednesday, December 15, 2022, at 12 p.m. (SST) is cancelled. The notice is in the Federal Register of Friday, July 8, 2022, in FR Doc. 2022-14527, in the first and second column of page 40783.

FOR FURTHER INFORMATION CONTACT: Brooke Peery, (202) 701-1376, bpeery@usccr.gov.

Dated: December 12, 2022.
David Mussatt,
Supervisory Chief, Regional Programs Unit.

[FR Doc. 2022-27205 Filed 12-14-22; 8:45 am]

BILLING CODE P